DEPARTMENT OF LABOR

Employment and Training Administration

[TA-W-55,009]

Oregon Panel Products, LLC, Formerly Known as Lebanite Corp., Hardboard Division, Lebanon, Oregon; Notice of Termination of Investigation

Pursuant to section 221 of the Trade Act of 1974, as amended, an investigation was initiated on June 2, 2003, in response to a petition filed on behalf of workers of Oregon Panel Products, LLC, formerly known as Lebanite Corporation, Hardboard Division, Lebanon, Oregon.

The petitioning group of workers is covered by an active certification issued on October 29, 2003 (TA-W-52,773), which remains in effect and has been amended to reflect the name change of the subject facility. Consequently, further investigation in this case would serve no purpose, and the investigation has been terminated.

Signed at Washington, DC, this 14th day of June 2004.
Richard Church,
Certifying Officer, Division of Trade Adjustment Assistance.

[FR Doc. 04-15305 Filed 7-6-04; 8:45 am]

BILLING CODE 4510-30-P